DEPARTMENT OF JUSTICE

[OMB Number 1110-0071]

Agency Information Collection Activities; Proposed eCollection eComments Requested; Extension of a Previously Approved Collection; National Use-of-Force Data Collection

AGENCY: Federal Bureau of Investigation, Department of Justice.

ACTION: 60-Day notice.

SUMMARY: The Federal Bureau of Investigation (FBI), Department of Justice (DOJ), will be submitting the following information collection request to the Office of Management and Budget (OMB) for review and approval in accordance with the Paperwork Reduction Act of 1995.

DATES: Comments are encouraged and will be accepted for 60 days until June 2, 2025.

FOR FURTHER INFORMATION CONTACT: If you have additional comments especially on the estimated public burden or associated response time, suggestions, or need a copy of the proposed information collection instrument with instructions or additional information, please contact Linda Shriver, Acting Unit Chief, Crime and Law Enforcement Statistics Unit, FBI, CJIS Division, Module D-2, 1000 Custer Hollow Road, Clarksburg, West Virginia 26306, telephone: 304-625-4830, email: llshriver@fbi.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The FBI has a long-standing tradition of collecting data and providing statistics concerning Law Enforcement Officers Killed and Assaulted (LEOKA) and justifiable homicides. To provide a better understanding of the incidents of use of force by law enforcement, the FBI's Uniform Crime Reporting (UCR) Program developed a data collection for law enforcement agencies to provide information on incidents where the use of force by a law enforcement officer led to the death or serious bodily injury of a person, as well as when a law enforcement officer discharged a firearm at or in the direction of a person. When a use of force incident occurs, federal, state, county, local, tribal, and territorial law enforcement agencies provide information to the data collection on characteristics of the incident, the victim(s) on which force was used by law enforcement, and the officers who applied force in the incident. Agencies positively affirm, monthly, whether their agency did or did not have a use of force incident that resulted in a fatality, a serious bodily injury to a person, or a firearm discharge at or in the direction of a person. When no use of force incident occurs in a month, agencies submit a zero report. Enrollment information from agencies and state points of contact is collected when the agency or contact initiates participation in the data collection. Enrollment information is updated no less than annually to assist with managing the data. The data collection defines a law enforcement officer using the current LEOKA definition: “All local, county, state, and federal law enforcement officers (such as municipal, county police officers, constables, state police, highway patrol, sheriffs, their deputies, federal law enforcement officers, marshals, special agents, etc.) who are sworn by their respective government authorities to uphold the law and to safeguard the rights, lives, and property of American citizens. They must have full arrest powers and be members of a public governmental law enforcement agency, paid from government funds set aside specifically for payment to sworn police law enforcement organized for the purposes of keeping order and for preventing and detecting crimes, and apprehending those responsible.” The definition of “serious bodily injury” is based, in part, on Title 18, United States Code, Section 2246 (4), to mean “bodily injury that involves a substantial risk of death, unconsciousness, protracted and obvious disfigurement, or protracted loss or impairment of the function of a bodily member, organ, or mental faculty.” These actions include the use of a firearm, an electronic control weapon (e.g., taser), an explosive device, pepper or oleoresin capsicum spray or other chemical agent, a baton, an impact projectile, a blunt instrument, hands-fists-feet, or canine.

Overview of This Information Collection

1. Type of Information Collection: Extension of a previously approved collection.

2. The Title of the Form/Collection: National Use-of-Force Data Collection.

3. The agency form number, if any, and the applicable component of the Department sponsoring the collection: There is no agency form number. The applicable component within DOJ is the FBI's Criminal Justice Information Services (CJIS) Division.

4. Affected public who will be asked or required to respond, as well as the obligation to respond: State, local and tribal governments, and the Federal Government. The obligation to respond is voluntary.

5. An estimate of the total number of respondents and the amount of time estimated for an average respondent to respond: A total of 12,861 agencies are enrolled in the National Use-of-Force Data Collection as possible respondents. The FBI estimates it will receive 94,340 incident reports per year. The estimated time to complete an incident report is 38 minutes.

6. An estimate of the total annual burden (in hours) associated with the collection: The FBI estimates the total annual burden hours for this collection as 59,749 hours (94,340 incident reports × 38 minutes per report/60 = 59,749).

7. An estimate of the total annual cost burden associated with the collection, if applicable: The estimated monetary cost burden for supplies, storage, or the like for this information collection is $0. Incident reports are submitted to the FBI through an online system maintained and operated by the FBI.

Total Burden Hours
Activity | Number of respondents | Frequency | Total annual responses | Time per response (min) | Total annual burden (hours)
Use of force incident report | 12,861 | Variable | 94,340 | 38 | 59,749
Unduplicated Totals | 12,861 |  | 94,340 |  | 59,749

If additional information is required contact: Darwin Arceo, Department Clearance Officer, United States Department of Justice, Justice Management Division, Policy and Planning Staff, Two Constitution Square, 145 N Street NE, 4W-218, Washington, DC.

Dated: March 31, 2025.
Darwin Arceo,
Department Clearance Officer for PRA, U.S. Department of Justice.

[FR Doc. 2025-05763 Filed 4-3-25; 8:45 am]

BILLING CODE 4410-02-P